ENVIRONMENTAL PROTECTION AGENCY

[FRL-7518-6]

Casmalia Disposal Site; Notice of Proposed CERCLA Administrative De Minimis Settlement

AGENCY: Environmental Protection Agency (EPA).

ACTION: Notice; request for public comment.

SUMMARY: In accordance with section 122(i) of the Comprehensive Environmental Response, Compensation, and Liability Act, as amended (“CERCLA”), 42 U.S.C. 9622(i), the EPA is hereby providing notice of a proposed administrative de minimis settlement concerning the Casmalia Disposal Site in Santa Barbara County, California (“the Casmalia Disposal Site”). Section 122(g) of CERCLA, 42 U.S.C. 9622(g), provides EPA with the authority to enter into administrative de minimis settlements. This settlement is intended to resolve the liabilities of 25 settling parties for the Casmalia Disposal Site under CERCLA and section 7003 of the Resource Conservation and Recovery Act (“RCRA”), 42 U.S.C. 6973. The settlement will also resolve the Casmalia Disposal Site-related liabilities of these parties for response costs incurred or to be incurred by the State of California, and for potential natural resource damage claims by State natural resource trustees. For all but one of the settling parties, the settlement will also resolve their Casmalia Disposal Site-related liability for response costs incurred or to be incurred, and potential natural resource damage claims, by the United States Fish and Wildlife Service and the National Oceanic and Atmospheric Administration. The settling parties will pay a total of $8,189,681 to EPA.

DATES: EPA will receive written comments relating to the settlement until July 28, 2003. The EPA will consider all comments it receives during this period, and may modify or withdraw its consent to the settlement if any comments disclose facts or considerations indicating that the settlement is inappropriate, improper, or inadequate. In accordance with section 7003(d) of RCRA, 42 U.S.C. 6973(d), commenters may request an opportunity for a public meeting in the affected area. The deadline for requesting a public meeting is July 7, 2003. Requests for a public meeting may be made by calling Karen Goldberg at (415) 972-3951.

ADDRESSES: Written comments should be addressed to Casmalia Case Team, U.S. Environmental Protection Agency Region IX, 75 Hawthorne Street (mail code SFD-7), San Francisco, California 94105-3901.

FOR FURTHER INFORMATION CONTACT: Additional information about the Casmalia Disposal Site and about the proposed settlement may be obtained on the Casmalia Web site at: http://yosemite.epa.gov/r9/sfund/overview.nsf or by calling Karen Goldberg at (415) 972-3951.

Dated: June 12, 2003.
Nancy Lindsay,
Acting Director, Superfund Division, Region IX.

[FR Doc. 03-16329 Filed 6-26-03; 8:45 am]

BILLING CODE 6560-50-P